FEDERAL EMERGENCY MANAGEMENT AGENCY

44 CFR Part 152

RIN 3067-AD21

Assistance to Firefighters Grant Program

AGENCY: U.S. Fire Administration (USFA), Federal Emergency Management Agency (FEMA).

ACTION: Interim final rule with request for comments.

SUMMARY: We, FEMA, are publishing this interim final rule to provide new guidance on our program to make grants directly to fire departments of a State for the purpose of enhancing their ability to protect the health and safety of the public as well as that of firefighting personnel facing fire and fire-related hazards. The grants will be awarded on a competitive basis to the applicants that address the program's priorities, demonstrate financial need, and maximize the benefit to be derived from the grant funds.

DATES: This interim final rule is effective February 27, 2002. We invite comments on this interim final rule, which we should receive by April 29, 2002.

ADDRESSES: Please send any comments to the Rules Docket Clerk, Office of the General Counsel, Federal Emergency Management Agency, room 840, 500 C Street, SW., Washington, DC 20472. Comments may also be transmitted via fax to (202) 646-4536 or email to rules@fema.gov.

FOR FURTHER INFORMATION CONTACT: Brian Cowan, Director, Grants Program Office, U.S. Fire Administration, Federal Emergency Management Agency, room 304, 500 C Street, SW., Washington, DC 20472, or call 1-866-274-0960, or e-mail USFAGRANTS@fema.gov.

SUPPLEMENTARY INFORMATION: This interim final rule provides guidance on the administration of grants made under the Federal Fire Protection and Control Act of 1974 (15 U.S.C. 2201 et seq.), as amended by the Floyd D. Spence National Defense Authorization Act for Fiscal Year 2002, Public Law 107-73. In fiscal year 2002, Congress appropriated a total of $360,000,000 to carry out the activities of this Assistance to Firefighters Grant Program. We have until September 30, 2002, to obligate $150,000,000 of the total and we must obligate the $210,000,000 balance by September 30, 2003.

The purpose of the program is to award grants directly to fire departments of a State for the purpose of enhancing their ability to protect the health and safety of the public, as well as that of firefighting personnel, facing fire and fire-related hazards.

We will award the grants on a competitive basis to the applicants that (1) address the program's priorities, and (2) demonstrate financial need and adequately demonstrate the benefit to be derived from their projects. For the purpose of this program, “State” is defined as the fifty States, the District of Columbia, Puerto Rico, the U.S. Virgin Islands, Guam, American Samoa, and the Commonwealth of the Northern Mariana Islands. We will provide the chief executives of the States with information concerning the total number and dollar amount of awards made to fire departments in their States.

Eligible applicants for the Assistance to Firefighters Grant Program are limited to fire departments of a State as defined herein. A “fire department of a State” is defined as an agency or organization that has a formally recognized arrangement with a State, local or tribal authority (city, county, parish, fire district, township, town or other governing body) to provide fire suppression, fire prevention and/or rescue services to a population within a fixed geographical area. A fire department can apply for assistance for its emergency medical services unit provided the unit falls organizationally under the auspices of the fire department.

Fire departments, which are Federal, or contracted by the Federal government and who are solely responsible under their formally recognized arrangement for suppression of fires on Federal installations, are not eligible for this grant program. Fire departments or fire stations that are not independent but are part of, or controlled by a larger fire department or agency are typically not eligible. Fire departments that are for-profit departments (i.e., do not have specific non-profit status or are not municipally based) are not eligible to apply for assistance under this program. Also not eligible for this program are ambulance services, rescue squads, auxiliaries, dive teams, urban search and rescue teams, fire service organizations or associations, and State/local agencies such as a forest service, fire marshal, hospitals, and training offices.

Congress included in the legislation a list of fourteen activities eligible for funding under this program. In the first year of the program, because of the limited amount of time to establish the new program, we elected to limit the number of eligible activities to six (Training, Wellness and Fitness, Firefighting Equipment, Personal Protective Equipment, Firefighting Vehicles, and Fire Prevention Programs) for fiscal year 2001. After the completion of awards in fiscal 2001, we recognized that there remains an overwhelming need in these six areas. Congress also recognized this need in the conference committee report on FY 2002 appropriations bill for Veterans Affairs, Housing and Urban Development and Independent Agencies (signed into law as Pub. L. 107-73). Specifically, Congress encouraged us to also consider making grants in the area of emergency medical services, but expansion into other categories should be considered only after substantial progress has been made in addressing the needs associated with the original six activities. As such, we will limit the eligible activities to those funded last year (i.e., Training, Wellness and Fitness, Firefighting Equipment, Personal Protective Equipment, Firefighting Vehicles, and Fire Prevention Programs) but expand the eligible activities for fiscal year 2002 to include one new activity, fire department based Emergency Medical Services.

While the 2002 program largely parallels last year's program, we are instituting a programmatic approach to project formulation under the grant program this year in order to create a more responsive and flexible grant program that addresses a broader range of fire department needs. Applicants may apply for a number of activities within one grant proposal that address all of their needs within a programmatic or functional area. The programs, and associated activities, eligible for this year's grant program are as follows:

(a) Fire Operations and Firefighter Safety Program. Eligible activities under this function are Training, Wellness and Fitness, Firefighting Equipment, and Personal Protective Equipment.

(b) Fire Prevention Program. Eligible activities under this function include, but are not limited to Public Education and Awareness, Enforce Fire Codes, Inspector Certification, Purchase and Install Smoke Alarms, and Arson Prevention and Detection.

(c) Emergency Medical Services Program. Eligible activities under this function are Equipment and Training. Vehicles are not eligible in this programmatic area.

(d) Firefighting Vehicle Acquisition Program. Eligible apparatus under this program include, but are not limited to, pumpers, brush trucks, tankers, rescue, ambulances, quints, aerials, foam units, and boats.

Applicants seeking funding from this grant program in fiscal year 2002 may apply for assistance in only one of the four programmatic areas listed above. Within the programmatic areas, applicants may develop a comprehensive program that addresses their needs by applying for as many of the eligible activities as necessary within the areas listed. For example, if a fire department determines that it has needs in the area of fire operations, that fire department could apply for any one of the activities, or any combination of activities, or all of the activities listed within that program. But if a department wants a vehicle, it would have to apply under the vehicle program.

Eligible applicants will apply for this program on-line via FEMA's new electronic (e-grant) application process. (While we encourage all applicants to apply on-line, we will again be accepting paper applications. Details about how to submit a paper application can be found later in this section of the interim final rule or on the U.S. Fire Administration's website: www.usfa.fema.gov). The e-grant application consists of electronic versions of FEMA's grant forms. The application will also have some questions that are designed to provide general, generic information about the applicant. Then, the application will also have activity-specific questions for each activity that the applicant plans to implement with the grant funds. Included with the activity-specific questions, the applicants will be asked to provide details concerning the various budget items necessary to accomplish their proposed projects. The last piece of the application is the project narrative in which the applicant provides a detailed description of their planned activity or activities, the applicant's financial need, and the benefits to be derived from the costs of the activity.

We anticipate 20,000 to 25,000 fire departments will apply for assistance in this second year of the grant program. Out of the 20,000 to 25,000 applicants, we anticipate awarding approximately 4,000 grants. However, due to the length of time that it will take us to make these awards, we anticipate that approximately half of these awards will be made before September 30, 2002. The balance of the awards will have to be made before September 30, 2003.

In selecting applications for award, we will evaluate each application for assistance independently based on established applicant eligibility criteria, program priorities, the financial needs of the applicant, and an analysis of the benefits that would result from the grant award. In the initial screening of the applications, every application will be evaluated based on the answers to the activity-specific questions. The applications that most closely address the Assistance to Firefighters Grant Program's established priorities will be deemed to be in the “competitive range” and subject to a second level of review. This second level of review is conducted using technical review panels (made up of individuals from the fire service or fire service organizations) that assess the application's merits with respect to the detail provided in the narrative about the project, the applicant's financial need, and the project's purported benefit to be derived from the cost. At least three technical evaluation panelists will independently score each application and then discuss the merits/shortcomings of the application in order to reconcile any major discrepancies. A consensus on the score is not required. The scores of the panelists will be added together, and then divided by the number of panelists to arrive at the final score of the application. The highest scoring applications will then be considered for award. We will provide equal consideration to all applications in each evaluation phase, regardless of the program applied for and regardless of complexity of the proposal.

In order to fulfill our obligations under the law, after making funding decisions using rank order as a preliminary basis, we must ensure that grants are made to a variety of fire departments. The law requires a specific distribution of grant funds between career departments and combination/volunteer fire departments. Specifically, we must ensure that fire departments that have either all-volunteer forces of firefighting personnel or combined forces of volunteer and career firefighting personnel receive a portion of the total grant funding that is not less than the proportion of the United States population that those departments protect. According to a 2000 survey by the National Fire Protection Association, volunteer and combination departments protect 55 percent of the population of the United States and career departments protect 45 percent of the population. Therefore, the target distribution of funds is 45 percent for career departments and 55 percent for volunteer/combination departments.

We also will ensure variety in terms of the size and character of the community it serves (urban, suburban, or rural), and the geographic location of the fire department. In these instances where we are making decisions based on geographic location, we will use States as the basic geographic unit. Geographic location of an applicant will be used primarily as a final discriminator. In cases where applicants have similar qualifications, we may use the geographic location of the applicants to maximize the diversity of the awardees.

For this year's grant program, we will issue the Request for Application (RFA) packages on or about March 1, 2002. The application will be available on FEMA's newly created e-grant system and accessible from the FEMA and USFA Internet homepages. Although we do not encourage the use of paper applications, paper applications will be available for applicants that do not have access to the Internet.

Complete application packages must be submitted electronically or otherwise received by us on or before the close of business (5 p.m. EST) on April 1, 2002. Applications submitted by mail must be post-marked by March 25, 2002, or received by us on or before close of business (5 p.m. EST) on April 1, 2002. We will not accept late applications.

The automated grant application system has features built into it that will guarantee that the application is complete when submitted. We will not accept incomplete applications submitted by mail.

Eligible applicants can access an electronic version of the application form at the FEMA/USFA website (

www.usfa.fema.gov). If an applicant does not have access over the Internet to the FEMA/USFA websites, the applicant may contact us directly to request a copy via mail. Although we do not recommend it due to inherent delays and relatively short application period, those applicants interested in receiving an application in the mail can (1) submit their request to USFA Grant Program Technical Assistance Center, 16825 South Seton Avenue, Emmitsburg, Maryland, 21727-8998, (2) phone 866-274-0960, or (3) e-mail us at USFAGRANTS@fema.gov. Applicants not using the automated e-grant system should complete and submit their applications to us at USFA Grant Program Technical Assistance Center, 16825 South Seton Avenue, Emmitsburg, Maryland, 21727-8998. Faxed applications will not be considered.

For last year's program, we solicited comments on both the collection and on the rule. We received no comments on the collection, but we received twelve (12) comments on the rule. Four comments were specific to the eligibility of certain items of expense and two were specific to the eligibility of certain types of applicants. All concerns over eligibility have been addressed via clearer guidance and definitions in this year's rule. One of the eligibility comments dealt with our perceived policy not to fund quints or aerials. The rule indicated that we would not afford a positive competitive standing for ladder or aerials apparatus. We believe this comment was prompted by the author's belief that these types of apparatus were not eligible, but in fact they were competitive, but not as competitive as some other types of apparatus due to their cost. This position will carry into the second year of the program but it is better explained in this year's guidance. Two comments were concerned about cost-share and funding levels, respectively, and these comments have been addressed by clearer guidance in this year's rule.

One comment concerned the perception that providing a preference to fire departments without equipment over fire departments with obsolete equipment gives an advantage to new, start-up departments over other needy departments. While this point is true, we believe there are many departments in existence that are fighting fires without basic equipment, therefore, we did not change this policy.

Lastly, we had a comment on direct-delivery training. Specifically, the comment concerned the fact that weekend and evening training is not easily achieved via direct delivery because the trainers from the State training office typically work Monday through Friday during workday hours. The comment went further to state that most fire departments have training officers that need materials and equipment to deliver the training. Our response to this comment is that providing a training officer the necessary resources to deliver training for his department (and neighboring departments) is precisely the applicant that we wish to fund.

In addition to the grants available to fire departments in fiscal year 2002, we may also use up to $10,000,000 of the funds available under the Assistance to Firefighter Grant Program in order for us to make grants to, or enter into contracts or cooperative agreements with, national, State, local or community organizations or agencies, including fire departments, for the purpose of carrying out fire prevention and injury prevention programs.

In accordance with statutory requirement, our support to Fire Prevention activities will concentrate on organizations that focus on the prevention of injuries to children from fire. In addition to this priority, we are also placing an emphasis on funding projects that focus on protecting the U.S. Fire Administration (USFA)-identified high-risk populations, i.e., children under fourteen, seniors over sixty-five, and firefighters. Since the unfortunate victims of burns experience both short- and long-term physical and psychological effects, we are also placing a priority on programs that focus on reducing the immediate and long-range effects of fire and burn injuries, and primarily those affecting children.

We invite letters of interest from States, U.S. Territories or national, tribal, local and community organizations that wish to be considered for the funding of fire prevention programs in this and future years, pending authorization and appropriation. Letters of interest should describe in general terms the content and context of proposed activities. The letters of interest should be received at the mailing address noted below no later than April 30, 2002.

Please submit letters of interest to: Brian Cowan, Assistance to Firefighters Grant Program, USFA/FEMA, room 304, Federal Center Plaza, 500 C Street SW., Washington DC 20472, Attention: Special Prevention Grants.

Administrative Procedure Act Determination

We are publishing this interim final rule without opportunity for prior public comment under the Administrative Procedures Act (APA), 5 U.S.C. 553. In accordance with 5 U.S.C. 553(d)(3), we find that there is good cause for the interim final rule to take effect immediately upon publication in the Federal Register in order to comply with Public L. 106-398, which requires us to award the grants no later than September 30, 2002. We invite comments from the public on this interim final rule. Please send comments to FEMA in writing on or before April 29, 2002. After we have reviewed and evaluated the comments we will publish a final rule as required by the APA.

National Environmental Policy Act

This rule is excluded from the preparation of an environmental assessment or environmental impact statement under 44 CFR 10.8(d)(2)(i), (ii), (iii), (v), and (vi).

E.O. 12898, Environmental Justice

Under Executive Order 12898, “Federal Actions to Address Environmental Justice in Minority Populations and Low-Income Populations,” 59 FR 7629, February 16, 1994, agencies must undertake to incorporate environmental justice into their policies and programs. The Executive Order requires each Federal agency to conduct its programs, policies, and activities that substantially affect human health or the environment, in a manner that ensures that those programs, policies, and activities do not have the effect of excluding persons from participation in, denying persons the benefits of, or subjecting persons to discrimination in those programs, policies, and activities because of their race, color, or national origin. No action that we can anticipate under this interim final rule will have a disproportionately high and adverse human health and environmental effect on any segment of the population. In addition, the interim final rule does not impose substantial direct compliance costs on those communities. Accordingly, the requirements of Executive Order 12898 do not apply to this interim final rule.

E.O. 12866, Regulatory Planning and Review

OMB has determined that this rule is a significant regulatory action under Executive Order 12866, 58 FR 51735, October 4, 1993. A significant regulatory action is subject to OMB review and the requirements of the Executive Order. The Executive Order defines “significant regulatory action” as one that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

This proposed rule sets out our administrative procedures for making grants under the Assistance to Firefighter Grant Program. We expect to award approximately $345,000,000 in grants under this program in this second year. With cost sharing, we expect the total value of all grants to be in the $395,000,000 to $400,000,000 range. Therefore, we conclude this rule is a significant action. Therefore, OMB has determined that this rule is a “significant regulatory action” under the terms of Executive Order 12866. In light of this finding, we set forth the following regulatory impact analysis.

The proposed rule would facilitate the issuance of grants to local fire departments in the following programmatic areas: Fire operations and firefighter safety, fire prevention, emergency medical services, and firefighting vehicles. As mandated by section 1701(b) of Public Law 106-398, we are conducing a study with National Fire Protection Association to determine the effectiveness of this program in responding needs of the fire service. That study is scheduled to be competed this year. As required, we will submit that report to Congress; it will also be available to the general public. Although we do not currently have quantitative studies to measure the envisaged effects of the program, we have determined that the funding distributed under this program will have an immediate, lasting, and positive affect on the safety of the communities served by the recipient fire departments, as well as on the safety of the firefighters themselves.

Congress included in the legislation a list of fourteen activities eligible for funding under this program. We could have chosen to fund all fourteen activities. However, in the first year of the program, Fiscal Year 2001, because of the limited amount of time to establish the new program, we elected to limit the number of eligible activities to six (Training, Wellness and Fitness, Firefighting Equipment, Personal Protective Equipment, Firefighting Vehicles, and Fire Prevention Programs). FEMA and nine fire service organizations identified these activities as those that would be most beneficial to the public given the cost constraints of the program. After the awarding of the 2001 grants, we found that there remained an overwhelming need in these six activities. Therefore, we have decided to limit the program to these six activities and one new activity, fire department based Emergency Medical Services, which has also been identified as a program with overwhelming need.

The Office of Management and Budget has reviewed the interim final rule under Executive Order 12866.

Paperwork Reduction Act

Concurrent with the publication of this interim final rule, we are submitting a request for emergency review and approval of a new collection of information, which is contained in this interim final rule. We are seeking emergency approval of the Paperwork Reduction Act requirements in order to collect supplemental information from each applicant. Although we have made some changes to the application process based on the experience of last year, the information collection is substantially similar to last year. We will use the supplemental information included in grant application packages to evaluate the eligibility and merits of each request for funding. The supplementary information augments the screening and referral forms used by the grants administration program in determining whether applicants meet basic eligibility requirements.

We submitted this request to the Office of Management and Budget (OMB) for approval under the emergency processing procedures in OMB regulations 5 CFR 1320.13, and OMB approved this collection of information for use through August 31, 2002, under OMB Number 3067-0285.

We expect to follow this emergency request with a request for OMB approval to continue the use of this collection of information for a term of three years. The request will be processed under OMB's normal clearance procedures in accordance with provisions of OMB regulation 5 CFR 1320.10. To help us with the timely processing of the emergency and normal clearance submissions to OMB, we invite the general public to comment on the proposed collection of information. This notice and request for comments complies with the provisions of the Paperwork Reduction Act of 1995 (44 U.S.C. 3506(c)(2)(A)).

Collection of Information

Title: Assistance to Firefighters Grant Program Grant Application Supplemental Information.

Type of Information Collection: Revisions of a currently Approved Collection OMB Number: 3067-0285.

Forms: Forms for the above fire grant program functions may be developed and made available to grant applicants. FEMA's grant administration forms are approved under OMB number 3067-0206, which expires February 29, 2004. The forms are SF 424, Request for Federal Assistance; FEMA Form 20-10, Financial Status Report; FEMA Form 20-20, Budget—Non Construction; FEMA Form 20-16, Summary of Assurances; SF-LLL, Lobbying Disclosure; and SF 270, Request for Advance or Reimbursement; SF 1199A, Direct Deposit Sign-Up Form and Performance Reports.

The supplemental information that FEMA is proposing to request is as follows:

(1) General questions asked of all applicants.

(a) Other than the individual listed on the SF-424, who in your department could we contact with regards to this grant?

(b) Are you a fire department or an authorized representative of a fire department?

(c) Are you a Federal fire department or contracted by the Federal government and solely responsible under a formally recognized arrangement for suppression of fires on Federal property?

(d) What kind of fire department are you: (i) Paid/career; (ii) volunteer; or (iii) combination?

(e) What percentage of your department's firefighting staff is career?

(f) What is the square mileage of your department's first-due response area?

(g) What is the permanent resident population of your department's first-due response area?

(h) Is your department located in an urban, suburban or rural setting?

(i) How many active firefighters are in the fire and EMS operations divisions of your department?

(j) How many stations are in your department?

(k) What is your department's average response time within the department's first-due response area?

(l) What services does your department provide?

(m) What percentage of your annual operating budget is for personnel?

(n) What percentage of your budget comes from: taxes, State or Federal grants, donations, and/or fund raising drives?

(o) List the types of firefighting vehicles you have in your fleet and the year those vehicles were manufactured. If you have more than two vehicles in any one category (i.e., pumper, tanker, brush), tell us the total number of vehicles in the category and the year the oldest and newest vehicle was manufactured.

(p) Over the last three years, what was the average annual number and type of incidents that your department responds to?

(q) Over the last three years, what was the average annual number of fire fatalities in your first-due response area?

(r) Over the last three years, what was the average annual number of times you received mutual/automatic aid?

(s) Over the last three years, what was the average annual number of times you provided mutual/automatic aid?

(t) Are you willing to comply with the grant program's cost-share requirement?

(u) Do you currently report to the national fire incident reporting system NFIRS)?

(v) If no, will you report if you are awarded a grant?

(2) Questions for Applicants Applying for the Fire Operations and Firefighter Safety Program

(a) Training Activities:

(i) Is the training planned under this grant direct-delivery training or off-site training?

(ii) What is the percentage of eligible staff within your department who will receive this training?

(iii) This training: will fulfill a statutory requirement; will achieve voluntary compliance with a national standard; or does not have a statutory basis or trade standard.

(iv) Is this training you are seeking: basic training for firefighters; officer training (either supervisory or safety officer); specialized training; or other?

(v) Will this training be used primarily for Rapid Intervention Teams (RITs)?

(b) Wellness and Fitness Activities

(i) Do you have a wellness/fitness program at your department?

(ii) Do you currently offer, or will this grant program provide, entry physical examinations?

(iii) Do you currently offer, or will this grant program provide, a job-related immunization program?

(iv) Including entry-level physicals and immunizations, what does your existing wellness/fitness program currently offer and what will your program offer during the grant year (i.e., entry physical examination, annual physical examination, job related immunization program, health screening program, formal fitness and injury prevention program, crisis management program, employee assistance program, incident rehabilitation program, injury/illness rehabilitation, or other)?

(v) Will participation in the wellness/fitness program be mandatory?

(vi) Do you, or will you, offer incentives to participate in the program?

(c) Personal Protective Equipment Acquisition

(i) What types of personal protective equipment do you propose to acquire?

(ii) How many units?

(iii) What is the cost per unit?

(iv) What percentage of your active firefighting staff has this specific type of personal protective equipment that meets current NFPA and OSHA standards?

(v) If you are proposing to purchase PASS devices, what type of PASS devices?

(vi) Are you seeking this grant to: equip your firefighting staff for the first time; replace obsolete or sub-standard equipment; or equip your staff for a new mission?

(vii) Will this training be used primarily for Rapid Intervention Teams (RITs)?

(d) Firefighting Equipment Acquisition

(i) What types and amounts of equipment will your department purchase with this grant?

(ii) How much does each piece of proposed equipment cost?

(iii) The equipment purchased under this grant program: is necessary for basic firefighting capabilities, but has never been owned by the department; will replace old, obsolete, or substandard equipment owned by the department; or will expand the capabilities of the department into a new mission.

(iv) The equipment purchased under this grant program: will bring the department into statutory compliance; will bring the department into voluntary compliance with a national standard; or has no statutory basis or and is not a national standard.

(v) Will the equipment purchase under this grant program benefit the health and safety of the firefighters and/or the community?

(vi) Will this training be used primarily for Rapid Intervention Teams (RITs)?

(3) Questions for Applicants Applying for the Fire Prevention Program

(i) Does your department currently have a fire prevention program/plan?

(ii) Will the grant: (1) Establish a new program; (2) expand an existing program into new areas; or (3) augment an existing fire prevention program?

(iii) In what areas do you plan on using these fire prevention grant funds: public education programs; purchase and installation of residential/public detection and suppression systems (that address USFA-targeted risks, i.e., children under the age of fourteen, seniors over sixty-five years of age and firefighters); development/enforcement of codes; public information materials; presentation aids and equipment; or other?

(iv) Is your program based on specific USFA operational or performance objectives?

(v) Will this program utilize partnerships with other organizations or groups in your community?

(vi) Who is your target audience: USFA-identified target (children under the age of fourteen, seniors over sixty-five years of age and firefighters), or other high-risk population?

(vii) Will this program be sustained beyond the grant period?

(viii) Will your department periodically evaluate the program's impact on the community?

(4) Questions for Applicants Applying for the Emergency Medical Services (EMS) Program

(a) EMS Equipment.

(i) What EMS equipment will your department buy?

(ii) How many units?

(iii) What is the cost per unit?

(iv) Why are you asking for the equipment?

(v) Will this equipment bring you into compliance with State or Federal standards/regulations?

(vi) What level of patient care is currently provided by your department and to what level of care will this equipment bring your department?

(b) EMS Training.

(i) What type of training will you conduct?

(ii) What level of patient care is currently provided by your department and to what level of proficiency will you be training your personnel?

(5) Questions for Applicants Applying in the Firefighting Vehicle Acquisition Program

(a) What type of vehicle will you use the grant money to purchase?

(b) The purpose of this grant is to: (i) Obtain additional vehicle for fleet, (ii) move an older unit to reserve fleet or retire an old vehicle, (iii) refurbish an old vehicle, or (iv) purchase a new vehicle to fulfill a new mission.

(c) How many vehicles of the type you are proposing to replace or purchase does your department own?

(d) What is the newest primary response vehicle in this class that you own?

(e) What is the oldest response vehicle in this class that you own?

(f) What is the mileage on the primary response vehicle you are proposing to replace?

(g) What are the average numbers of responses per year for the primary response vehicle you are proposing to replace?

Project Narrative: Each application must include a narrative statement not to exceed five pages. The narrative should contain a detailed description of the proposed project and its budget, a statement that demonstrates the financial need of the fire department and a statement that details the benefits to be derived by your department and/or community from the expenditure of grant funding for the purposes of competitive evaluation and rating. The section in the narrative that discusses the applicants financial need should include information on the extent to which the applicant has been able to secure financial assistance from any Federal agency for programs or activities similar to those applied for under this grant program.

Applicants that need assistance in formulating the justification or narrative statement required by this program may contact us for technical assistance. We will also place information and technical assistance onto the FEMA/USFA websites. Our Technical Assistance Center's toll free number is 866-274-0960, our email address is USFAGRANTS@fema.gov, and our website addresses are www.fema.gov and www.usfa.fema.gov.

Abstract: The supplemental information will correspond to the preliminary evaluation criteria. The information will be submitted by grant applicants who apply for funding under the Assistance to Firefighters Grant Program authorized by Congress in fiscal year 2001. The information collected will be used to evaluate each of the 20,000 to 25,000 anticipated applications objectively to verify eligibility and to determine which of the proposed projects most closely address the established program priorities and which applicants have the greatest needs. The information will also be used to determine which projects offer the highest benefits for the costs incurred and the information will be used to ensure that FEMA's responsibilities mandated in the legislation are fulfilled accurately and efficiently. FEMA will also use the information to ensure that funds are distributed to volunteer and career departments consistent with the mandates of Congress. Additionally, we seek to ensure variety in awarding grants to urban, suburban, and rural fire departments and, among states.

Estimated Annual Burden Hours: The annual burden hours for this collection of information range from 335,998 to 421,081 hours with an average of 378,540 annual burden hours.

Grant Applicants:
SF-424 Application Facesheet | 20,000 to 25,000 | 0.75 hr. 45 minutes | 15,000 to 18,750.
FEMA Form 20-20 Budget Non-Construction. | 20,000 to 25,000 | 9.7 hrs. or 9 hours 42 min. | 194,000 to 242,500.
FEMA Form _, Project Narrative | 20,000 to 25,000 | 2.0 hrs | 40,000 to 50,000
FEMA Form 20-16 Summary of Assurances. | 20,000 to 25,000 | 1.7 hrs. 1 hr 42 min | 34,000 to or 42,500.
SF-LLL Lobbying Disclosure | 20,000 to 25,000 | 0.1666 hr. or 10 minutes. | 3,332 to 4,165.
Grant Application Supplemental Program Information—General Questions for all Applicants. | 20,000 to 25,000 | 1.0 hr. | 20,000 to 25,000.
Sub-Total
Range | 20,000 to 25,000 |  | 306,332 to 382,915.
Avg. | 22,500 | 15.32 hrs. | 344,624 | $5,169,360
Grant Application Supplemental Program Information—Specific Questions (Applicants May Choose Only One Activity)
• Vehicle Acquisition | 9,000 to 13,000 | 0.5 | 4,500 to 6,500 avg. 5,500.
• Firefighting Operations and Safety | 9,000 to 13,000 | 1.0 | 9,000 to 13,000 avg. 11,000.
• Emergency Medical Services | 2,000 to 4,000 | 0.5 | 1,000 to 2,000 avg. 1,500.
• Fire Prevention Programs | 1,000 to 2,000 | 0.5 | 500 to 2,000 avg. 1,250.
|  |  | 15,000-23,500 avg. 19,250. | $288,750
Grantee Collections/Reporting:
Payment Document SF-270 | 4,000 × 2 responses | 1.0 | 8,000.
Direct Deposit Form SF-1199a | 4,000 | 0.1666 hr. or 10 minutes. | 666.
SF 20-10 Financial Status Report | 4,000 | 1.0 | 4,000.
Final Performance Report (as required by the Articles of Agreement). | 4,000 | 0.5 | 2,000.

This collection of information uses forms approved by OMB under FEMA's Grants Administration Program requirements under OMB Number 3067-0206, which expires February 29, 2004.

Estimated Cost to the Respondents: The estimated average cost of this collection is $5,678,100 ($15.00 per hour × 378,540 hours). This information collection is a grant application, therefore, the frequency of response for all forms, except the SF-270, is only once per year. The SF-270 will average twice per year per grantee and that is factored into the burden hours.

Comments: We solicit written comments to: (a) Evaluate whether the proposed data collection is necessary for the proper performance of the agency, including whether the information will have practical utility; (b) evaluate the accuracy of the agency's estimate of the burden of the proposed collection of information; (c) obtain recommendations to enhance the quality, utility, and clarity of the information to be collected; and (d) evaluate the extent to which automated, electronic, mechanical, or other technological collection techniques may further reduce the respondents' burden. OMB should receive comments by March 29, 2002. FEMA will continue to accept comments through April 29, 2002.

Addressee: Interested persons should submit written comments to the Desk Officer for the Federal Emergency Management Agency, Office of Management and Budget, Office of Information and Regulatory Affairs, 725 17th Street, NW, Washington, DC 20503 by March 29, 2002. FEMA will continue to accept comments through April 29, 2002. Those written comments on the collection of information, including the burden estimate, should be sent to Muriel B. Anderson, Chief, Records Management Section, Program Services and Systems Branch, Facilities Management and Services Division, Administration and Resources Planning Directorate, Federal Emergency Management Agency, 500 C Street, SW., room 316, Washington, DC 20472.

FOR FURTHER INFORMATION CONTACT: You may obtain copies of the OMB paperwork clearance package by contacting Ms. Anderson at (202) 646-2625 (voice), (202) 646-3524 (facsimile), or by e-mail at muriel.anderson@fema.gov.

Executive Order 13132, Federalism

This Executive Order sets forth principles and criteria that agencies must adhere to in formulating and implementing policies that have federalism implications, that is, regulations that have substantial direct effects on the States, or on the distribution of power and responsibilities among the various levels of government. Federal agencies must closely examine the statutory authority supporting any action that would limit the policymaking discretion of the States, and to the extent practicable, must consult with State and local officials before implementing any such action.

We have reviewed this interim final rule under the threshold criteria of Executive Order 13132, Federalism. We have determined that the rule does not have federalism implications as defined by the Executive Order. The rule sets out our administrative procedures for making grants available for fire departments to enhance their ability to protect the health and safety of the public and that of their firefighting personnel facing fire and fire-related hazards. The rule does not significantly affect the rights, roles, and responsibilities of States, and involves no preemption of State law, nor does it limit State policymaking discretion.

Congressional Review of Agency Rulemaking

We have sent this final rule to the Congress and to the General Accounting Office under the Congressional Review of Agency Rulemaking Act, 5 USC 801 et seq. The rule is a “major rule” within the meaning of that Act. It will result in an annual effect on the economy of $100,000,000 or more. The rule sets out our administrative procedures for making grants available for eligible applicants, i.e., fire departments, to enhance their ability to protect the health and safety of the public as well as that of the firefighting personnel facing fire and fire-related hazards. We expect to award approximately $345,000,000 in grants under this program. With cost sharing, we expect the total value of all grants to be in the $390,000,000 to $400,000,000 range.

In compliance with section 808(2) of the Congressional Review of Agency Rulemaking Act, 5 U.S.C. 808(2), for good cause we find that notice and public procedure on this final rule are impractical, unnecessary, or contrary to the public interest due to the requirements of Public Law 107-73, which requires us to award at least $150,000,000 in grants no later than September 30, 2002. (The balance of the available funding, $210,000,000 will be awarded before September 30, 2003.) In order to comply with this statutory mandate, we need to begin accepting applications no later than March 1, 2002. We invite comments from the public on this interim final rule. Accordingly, this final rule is effective February 27, 2002.

Unfunded Mandates Reform Act

The rule is not an unfunded Federal mandate within the meaning of the Unfunded Mandates Reform Act of 1995, 2 USC 1501 et seq., and any enforceable duties that we impose are a condition of Federal assistance or a duty arising from participation in a voluntary Federal program.

List of Subjects in 44 CFR Part 152

Assistance to Firefighters Grant Program.

Accordingly, we revise part 152 of 44 CFR chapter I, to read as follows:

PART 152—ASSISTANCE TO FIREFIGHTERS GRANT PROGRAM

Sec.
152.1 Purpose and eligible uses of grant funds.
152.2 Definitions.
152.3 Availability of funds.
152.4 Roles and responsibilities.
152.5 Review process and evaluation criteria.
152.6 Application review and award process.
152.7 Grant payment, reporting and other requirements.
152.8 Application submission and deadline.
152.9 Technical or procedural error.

Authority: 15 U.S.C. 2201 et seq.; Pub.L. 107-73, 115 Stat. 688.

§ 152.1 Purpose and eligible uses of grant funds.

(a) This competitive grant program will provide funding directly to fire departments of a State for the purpose of enhancing the department's ability to protect the health and safety of the public, as well as that of firefighting personnel, facing fire and fire-related hazards. In order to achieve this stated intent we invite fire departments to apply for assistance in any one (1) of the four (4) program areas described in paragraphs (a)(1) through (4) of this section.

(1) Fire Operations and Firefighter Safety Program. Appropriate activities under this program area include: Training, Wellness and Fitness, Firefighting Equipment and Personal Protective Equipment. Applicants can apply for as many related activities under this function as necessary.

(i) Training Activities: (A) Training firefighting personnel in fire-fighting, emergency response, supervision and safety, arson prevention and detection, handling of hazardous materials, or training firefighting personnel to provide training in any of these areas. Eligible uses of training funds include but are not limited to purchase of training curricula, training equipment and props including trailers, training services, attendance at formal training forums, etc. Tow vehicles or other means of transport may be eligible as a transportation expense if adequately justified in the proposal, but transportation expenses will be limited to $6,000 per year. Compensation to volunteer firefighters for wages lost as a result of attending training under this program is an eligible expense if justified in the grant proposal. Overtime expenses paid to career firefighters to attend training, or overtime expenses paid to firefighters to cover for their colleagues while their colleagues are in training, is an eligible expense if justified in the grant proposal. Even though compensation is an eligible expense, proposals that contain such compensation expenses may be less favorable than similar proposals without compensation expenses due to the benefit/cost element in the evaluation process.

(B) Activities that are not eligible in this area include construction of facilities such as classrooms, buildings, towers, etc. Modifications to an existing facility are allowable if the modifications involve only minor renovation as defined herein (i.e., limited to minor interior alterations costing less than $10,000).

(ii) Wellness and Fitness Activities:

(A) Establishing and/or equipping wellness and fitness programs for firefighting personnel, including the procurement of medical services to ensure that the firefighting personnel are physically able to carry out their duties (purchase of medical equipment is not eligible under this activity). Expenses to carry out wellness and fitness activities that include costs such as personnel (i.e., health-care consultants, trainers, and nutritionists), physicals, equipment (including shipping), supplies, and other related contract services that are directly associated with the implementation of the proposed activity are eligible.

(B) Transportation expenses and fitness club memberships for the firefighters or their families would not be eligible under the wellness and fitness program. Other activities that are not eligible in this area include construction of facilities to house a fitness program such as exercise or fitness rooms, showers, etc. Modifications to an existing facility are allowable if the modifications involve only renovations as defined herein (i.e., limited to minor interior alterations costing less than $10,000).

(iii) Firefighting Equipment Acquisition: (A) Acquiring additional firefighting equipment, including equipment needed directly for fire suppression or to enhance the safety or effectiveness of firefighting or rescue activities. Compressor systems, cascade systems, or similar SCBA refill systems are eligible expenditures in this area as are individual communications and accountability systems. The cost of shipping equipment purchased under this program is also an eligible expense. Thermal imaging cameras are eligible but the number of cameras that can be purchased with grant funds will be limited based on the population served by the department applying for assistance. Departments that serve communities of less than 20,000 can purchase one thermal imaging camera with grant funds if awarded a grant; departments serving communities between 20,000 and 50,000 can purchase for two cameras with grant funds if awarded a grant; and, departments serving communities of over 50,000 can purchase three cameras with grant funds if awarded a grant. Portable radios and/or mobile communications equipment (including mobile repeaters) are eligible.

(B) Integrated communications systems (or parts thereof), such as computer-aided dispatch, towers, repeaters, etc., are not eligible under this activity. Vehicles, as defined herein, are not eligible under this activity.

(iv) Personal Protective Equipment Acquisition: (A) Acquiring personal protective equipment required for firefighting personnel as approved by the Occupational Safety and Health Administration, and other personal protective equipment for firefighting personnel to enhance their operational safety. Eligible personal protective equipment includes clothing such as “Turnout Gear” or “Bunker Gear” (including boots, pants, coats, gloves, hoods, goggles, vests, and helmets), self-contained breathing apparatus, spare cylinders, and personal alert safety systems.

(B) The purchase of three-quarter length rubber boots is an ineligible expenditure under this activity. Uniforms (formal/parade or station/duty) or uniform items (hats, badges, etc.) are also not eligible expenditures under this activity.

(2) Fire Prevention Programs. (i) Applicants can apply for as many related activities under this function as necessary. Appropriate activities in this program include: Public Education, Public Awareness, Enforcing Fire Codes, Inspector Certification, Purchase and Install Smoke Alarms, and Arson Prevention and Detection Activities. Eligible expenses to carry out these activities would include costs such as fire education safety trailer, personnel, transportation, equipment, supplies, and contracted services which are directly associated with the implementation of the proposed activity. Tow vehicles or other means of transport may be eligible as a transportation expense if adequately justified in the proposal, but transportation expenses will be limited to $6,000 per year.

(ii) Construction is not eligible under this program. A safety village that is not transportable would be considered construction, and therefore, not eligible.

(3) Emergency Medical Services Program. (i) Applicants can apply for as many related activities under this function as necessary. Appropriate activities in this program are training (instructional costs (i.e., books, materials, equipment, supplies, and exam fees), certification/re-certification expenses, and continuing education programs) and equipment (defibrillators, basic and advanced life support equipment, universal precaution supplies (i.e., medical PPE) mobile and portable communication equipment, computers, expendable supplies, and infectious disease control and decontamination systems). Tow vehicles or other means of transport may be eligible as a transportation expense if adequately justified in the proposal, but transportation expenses will be limited to $6,000 per year.

(ii) Not eligible in this program are vehicles such as ambulances, medications and integrated communication systems (or parts thereof), such as computer aided dispatch, towers, fixed repeaters, etc.

(4) Firefighting Vehicles Program. Eligible apparatus under this function includes, but is not limited to, pumpers, engines, brush trucks, tankers, rescue, ambulances, quints, aerials, foam units, and boats. Applicants may apply for only one vehicle under this program per year. Eligible expenses under this program would include the cost of the vehicle and associated equipment necessary to conform to applicable national standards. Due to their cost, aerials and quints have a lower benefit than pumpers, engines, tankers, and brush trucks. New, used or refurbished vehicles are eligible. Custom vehicles are eligible, but they may not be as favorably evaluated as a lower costing commercial vehicle. An allowance for transportation to inspect a vehicle under consideration or during a vehicle's production would be eligible if included in the grant proposal.

(b) Other Costs. (1) Administrative costs are allowable under any of the program areas listed in paragraph (a)(1) through (4) of this section in accordance with OMB Circular A-87. (See 5 CFR 1510.3 for availability of OMB circulars.) Applicants may apply for administrative costs if the costs are directly related to the implementation of the program for which they are applying. Applicants must list their costs under the “other” category in their budget and explain what the costs are for in their project narrative. Examples of eligible administrative costs would be shipping, computers, office supplies, etc.

(2) Applicants that have an approved indirect cost rate may charge indirect costs to the grant if they submit the documentation that supports the rate to us. We will allow the rate to be applied as long as it is consistent with its established terms. For example, some indirect cost rates may not apply to capital procurements; in this case, indirect cost rates would not apply for a grant to purchase equipment or a vehicle.

(3) Some applicants with large awards may be required to undergo an audit in accordance with OMB Circular A-133, specifically, any recipient of Federal funding that spends in excess of $300,000 of those funds in a year. The costs incurred for such an audit would be an expenditure that is eligible for reimbursement if included in the budget proposal.

(4) The panelists will review the applications that make it into the competitive range and judge each application on its own merits. The panelists will consider all expenses budgeted, including administrative and indirect, as part of the cost-benefit determination.

§ 152.2 Definitions.

Active firefighter is a member of a fire department or organization in good standing that is qualified to respond to and extinguish fires or perform other fire department emergency services and has actively participated in such activities during the past year.

Career department is a fire suppression agency or organization in which all active firefighters are assigned regular duty shifts and receive financial compensation for their services rendered on behalf of the department.

Combination department is a fire suppression agency or organization in which at least one active firefighter receives financial compensation for his/her services rendered on behalf of the department and at least one active firefighter does not receive financial compensation for his/her services rendered on behalf of the department other than life/health insurance, workmen's compensation insurance, length of service awards, pay per-call or per-hour, or similar token compensation.

Construction is the creation of a new structure or any modification of the footprint or profile of an existing structure. Changes or renovations to an existing structure that do not change the footprint or profile of the structure but exceed either $10,000 or 50 percent of the value of the structure, are also considered construction. Changes that are less than $10,000 and/or 50 percent of the value of the structure are considered renovations.

Direct delivery of training is training conducted within a training organization's own jurisdiction using the organization's own resources (trainers, facilities, equipment, etc.).

Fire department or fire department of a State is an agency or organization that has a “formally recognized arrangement” with a State, local or tribal authority (city, county, parish, fire district, township, town, or other non-Federal governing body) to provide fire suppression, fire prevention and rescue services within a fixed geographical area.

(1) A fire department can apply for assistance for its emergency medical services unit provided the unit falls organizationally under the auspices of the fire department.

(2) Fire departments that are Federal, or contracted by the Federal government and whose sole responsibility is suppression of fires on Federal installations, are not eligible for this grant program. Fire departments or fire stations that are not independent but are part of, or controlled by a larger fire department or agency are typically not eligible. Fire departments that are for-profit departments (i.e., do not have specific non-profit status or are not municipally based) are not eligible to apply for assistance under this program. Also not eligible for this program are ambulance services, rescue squads, auxiliaries, dive teams, urban search and rescue teams, fire service organizations or associations, and State/local agencies such as a forest service, fire marshal, hospitals, and training offices.

Firefighter see the definition of Active firefighter in this section.

First-due response area is a geographical area in proximity to a fire or rescue facility and normally served by the personnel and apparatus from that facility in the event of a fire or other emergency as the first responders.

Formally recognized arrangement is an agreement between the fire department and a local jurisdiction such that the jurisdiction has publicly deemed that the fire department has the first-response responsibilities within a fixed geographical area of the jurisdiction. Often this agreement is recognized or reported to the appropriate State entity with cognizance over fire department such as registration with the State Fire Marshal's office or the agreement is specifically contained in the fire department's or jurisdiction's charter.

Integrated communication systems and devices are equipment or systems for dispatch centers or communication infrastructure. Examples of these include 911 systems, computer-aided dispatch systems, global positioning systems, towers, fixed repeaters, etc.

New mission is a first-responder function that a department has never delivered in the past or that was once delivered but has since been abandoned by the department due to the lack of funding or community support. Examples include technical search and rescue, emergency medical services, hazardous materials response, etc. A new mission does not include services already provided from existing facilities. Opening additional stations to provide similar services would be considered an expansion of existing services.

Population means permanent residents in the first-due response area or jurisdiction served by the applicant. It does not include seasonal population or any population in area that the fire department responds to under mutual/automatic aid agreements.

Prop is something that can be held up in a classroom or moved from site to site in order to facilitate or enhance the training experience. A training tower (pre-fabricated or constructed) is not a prop.

Renovation means changes or alterations or modifications to an existing structure that do not exceed either $10,000 or 50 percent of the value of the structure and do not involve a change in the footprint or profile of the structure.

State means any of the fifty States, the District of Columbia, Puerto Rico, the U.S. Virgin Islands, Guam, American Samoa, and the Commonwealth of the Northern Mariana Islands.

Supplies means any expendable property that typically has a one-time use limit and an expectation of being replaced within one year.

Vehicle is a mechanized device used for carrying passengers, goods, or equipment. Examples of vehicles include, but are not limited to: pumpers, brush trucks, tankers, tenders, attack pumpers, rescue (transport and non-transport), ambulances, foam units, quints, aerials, ladders, towers, hazmat vehicles, squads, crash rescue (ARFF), boats, hovercraft, planes, and helicopters.

Volunteer Department is a fire suppression agency or organization in which no active firefighters are considered full-time employees, and which no members receive financial compensation for their services rendered on behalf of the department other than life/health insurance, workers' compensation insurance, length of service awards, pay per-call or per-hour, or similar token compensation.

§ 152.3 Availability of funds.

(a) Fire departments that have received funding under the Assistance to Firefighter Grant Program in previous years are eligible to apply for funding in the current year. No applicant can receive more than $750,000 in Federal grant funds under this program in any fiscal year. The awards made under the Assistance to Firefighter Grant Program are for one year only. The period of performance will be detailed in the award documents provided each grantee.

(b) The scoring of the applications will determine the distribution of the funding among the eligible programs. Notwithstanding anything in this part, no more than 25 percent of the grant funds shall be used to assist recipients to purchase firefighting vehicles and not less than 5 percent of all funds appropriated for firefighter assistance shall be available for fire prevention programs.

(c) We will not provide assistance under this part for activities for which another Federal agency has more specific or primary authority to provide assistance for the same purpose. We may disallow or recoup amounts that fall within other Federal agency's authority.

§ 152.4 Roles and responsibilities.

(a) Applicants must:

(1) Complete the application and certify to the accuracy of the application;

(2) Certify that they are an eligible applicant, i.e., a fire department, as defined in this rule;

(3) Certify as to the characteristics of their community, i.e., urban, suburban, or rural;

(4) Certify to the size of the population of the community served; and,

(5) Certify to the type of department, i.e., volunteer/combination or career.

(b) Recipients (Grantees) must agree to:

(1) Share in the costs of the projects funded under this grant program. Fire departments in areas serving populations over 50,000 must agree to match the Federal grant funds with an amount of non-Federal funds equal to 30 percent (30%) of the total project cost. Fire departments serving areas with a population of 50,000 or less will have to match the Federal grant funds with an amount of non-Federal funds equal to 10 percent (10%) of the total project cost. All cost-share contributions must be cash. No “in-kind” contributions will be considered for the statutorily required cost-share. No waivers of this requirement will be granted except for fire departments of Insular Areas as provided for in 48 U.S.C. 1469a.

(2) Maintain operating expenditures in the areas funded by this grant activity at a level equal to or greater than the average of their operating expenditures in the two years preceding the year in which this assistance is received.

(3) Retain grant files and supporting documentation for three years after the conclusion of the grant.

(4) Report to FEMA on the progress made on the grant and financial status of the grant.

(5) Make their grant files, books and records available if requested for an audit to ensure compliance with any requirement of the grant program.

(6) Provide information to the U.S. Fire Administration (USFA) national fire incident reporting system (NFIRS) for the period covered by the assistance. If a grantee does not currently participate in the incident reporting system and does not have the capacity to report at the time of the award, that grantee must agree to provide information to the system for a twelve-month period commencing as soon as they develop the capacity to report.

(c) FEMA Activities:

(1) We will ensure that the funds are awarded based on the priorities and expected benefits articulated in the statute, this part 152, and USFA's strategic plan. USFA's operational and performance objectives of its strategic plan are to reduce losses of life and reduce economic losses due to fire and related emergencies. Specific target groups are children under 14 years old, seniors over 65 years old, and firefighters.

(2) We will ensure that not more than twenty-five percent (25%) of the appropriated funding will be used to purchase firefighting vehicles.

(3) We will ensure that not less than five percent (5%) of the appropriated funds are made available to national, State, local, or community organizations, including fire departments, for the purpose of carrying out fire prevention programs.

(4) We will ensure that fire departments with volunteer staff, or staff comprised of a combination of career fire fighters and volunteers, receive a proportion of the total grant funding that is not less than the proportion of the United States population that those firefighting departments protect.

(5) We will ensure that grants are made to fire departments located in urban, suburban, and rural communities.

(6) We will strive to ensure geographic diversity of awards as stipulated in §152.6.

§ 152.5 Review process and evaluation criteria.

(a) We will use the narratives/supplemental information provided by the applicants in their grant applications to evaluate, on a competitive basis, the merits and benefits of each request for funding. In selecting applications for award, we will evaluate each application for assistance independently based on established eligibility criteria, the program priorities, the financial needs of the applicant, and an analysis of the benefits that would result from the grant award. Every application will be evaluated based on the answers to the activity-specific questions during our initial screening. The applications that are determined to best address the Assistance to Firefighters Grant Program's established priorities during this initial screening will be in the “competitive range” and subject to a second level of review.

(b)(1) In order to be successful at this level of the evaluation, an applicant must complete the narrative section of the application package. The narrative should include a detailed description of the planned activities and uses for the grant funds including details of each budget line item. For example, if personnel costs are included in the budget, please provide a break down of what those costs are for. The narrative should explain why the grant funds are needed and why the department has not been able to obtain funding for the planned activities on its own. A discussion of financial need should include a discussion of any Federal funding received for similar activities. Finally, the applicant's narrative will detail the benefits the department or community will realize as a result of the grant award.

(2) Applicants may seek assistance in formulating their cost-benefit statement or any other justification required by the application by contacting our Grant Program Technical Assistance Center at 866-274-0960 or by email at USFAGRANTS@fema.gov. We will also place information to assist you in the development of a competitive grant application on the FEMA/USFA websites.

(c) This second level of review will be conducted using a panel of technical evaluation panelists that assess the application's merits with respect to the clarity and detail provided in the narrative about the project, the applicant's financial need, and the project's purported benefit to be derived from the cost. The technical evaluation panelists will independently score each application before them and then discuss the merits/shortcomings of the application in an effort to reconcile any major discrepancies. A consensus on the score is not required. The highest scoring applications will then be considered for award. We seek to maximize the benefits derived from the funding by crediting applicants with the greatest financial need and whose proposed activities provide the greatest benefit.

(d) In addition to the project narrative, the applicant must provide an itemized budget detailing the use of the grant funds. If an applicant is seeking funds in more than one eligible activity within a program, separate budgets will have to be generated for each activity and then an overall or summary budget would have to be generated. For those applicants applying on line, the summary budget will be automatically generated by the e-grant system.

(e) Specific rating criteria for each of the eligible programs follow in paragraphs (e)(1) through (4) of this section. These rating criteria will provide an understanding of the grant program's priorities and the expected cost effectiveness of any proposed projects.

(1) Fire Operations and Firefighter Safety Program.

(i) Training Activities. We believe that more benefit is derived from the direct delivery of training than from the purchase of training materials, equipment or props. Therefore, applications focused on direct delivery of training will receive a higher competitive rating. We also believe that funding of basic firefighting training to an operational level (i.e., training in basic firefighting duties or operating fire apparatus) has greater cost-benefit than funding of officer training. Likewise, we feel there is a greater cost-benefit to officer training than for other specialized training. Train-the-trainer activities are rated high due to the obvious return on investment. We will also accord higher rating to programs achieving benefits from statutorily required training over non-mandatory or strictly voluntary training. Finally, we will rate more highly those programs that benefit the highest percentage of targeted personnel within a fire department. Training designated for Rapid Intervention Teams will have a slightly higher competitive advantage.

(ii) Wellness and Fitness Activities. We believe that in order to have an effective wellness/fitness program, fire departments must offer both an entry physical examination and an immunization program. Accordingly, applicants in this category must currently offer both benefits, or must propose to initiate both a physical examination and an immunization program with these grant funds in order to receive additional consideration for funding this activity. We believe the greatest benefit will be realized by supporting new wellness and fitness programs, and therefore, we will accord higher competitive ratings to those applicants lacking wellness/fitness programs over those applicants that already possess a wellness/fitness program. We believe that programs with annual physicals and general health screening provide high benefits and programs with incident rehabilitation, formal fitness regiments, and/or injury prevention components offer significant benefits. Finally, since participation is critical to achieving any benefits from a wellness or fitness program, we will give higher competitive rating to departments whose wellness and fitness programs mandate participation as well as programs that provide incentives for participation.

(iii) Firefighting Equipment Acquisition. We believe that this grant program will achieve the greatest benefits if we provide funds to fire departments purchasing basic firefighting equipment. We will afford departments buying basic firefighting equipment for the first time (equipment never owned before) a higher competitive rating than departments buying replacement equipment or equipment that will be used to expand the department's capabilities into new mission areas. We believe there is more benefit realized to bring a department up to the applicable minimum standard (i.e., as required by statute, regulation, or professional firefighting guidance), rather than to the department that is replacing equipment or enhancing capabilities. Because of the obvious benefits, we will also give higher competitive rating to departments that are mainly purchasing equipment designed to protect the safety of the firefighters. Equipment designated for Rapid Intervention Teams will have a slightly higher competitive advantage.

(iv) Personal Protective Equipment Acquisition. One of the stated purposes of this grant program is to protect the health and safety of firefighters. In order to achieve this goal and maximize the benefit to the firefighting community, we believe that we must fund those applicants needing to provide personal protective equipment (PPE) to a high percentage of their personnel. Accordingly, we will give a high competitive rating in this category to fire departments in which a large percentage of their active firefighting staff do not have any personal protective equipment and to departments that wish to purchase enough PPE to equip one hundred percent (100%) of their active firefighting staff. The goal is to provide all active firefighters with a complete set of equipment, breathing apparatus as well as turnout gear. We will also give a higher competitive rating to departments that are purchasing the equipment for the first time as opposed to departments replacing obsolete or substandard equipment (e.g., equipment that does not meet current National Fire Protection Association (NFPA) and Occupational Safety and Health Administration (OSHA) standards), or purchasing equipment for a new mission. Departments that are replacing used gear that is very old, will be afforded a higher competitive rating than a department whose gear is relatively new. We will provide a higher competitive rating to departments requesting integrated Personal Accountability Safety System (PASS) devices than to those departments that are requesting non-integrated PASS devices. We also believe it is more cost beneficial to fund departments that have a high volume of responses per year before funding less active departments. Equipment designated for Rapid Intervention Teams will have a slightly higher competitive advantage.

(2) Fire Prevention Program. We believe that the public as a whole will receive the greatest benefit by creating new fire prevention programs.

(i) Our priority is to target these funds to fire departments that do not have an existing fire prevention program as opposed to those departments that already have such a program. Also, we believe the public will benefit greatly from establishing fire prevention programs that will continue beyond the grant year as opposed to limited efforts. Therefore, we will give a higher competitive rating to programs that will be self-sustaining after the grant period.

(ii) Because of the benefits to be attained, we will give a higher competitive rating to programs that target one or more of USFA's identified high-risk populations (i.e., children under fourteen years of age, seniors over sixty-five and firefighters), and programs whose impact is/will be periodically evaluated.

(iii) We believe that public education programs, programs that develop and enforce fire codes and standards, and arson prevention and detection programs have a high benefit, therefore, they will receive the highest competitive rating.

(iv) We also believe programs that purchase and install residential and public detection and suppression systems provide significant benefits.

(v) Programs that are limited to the purchase of public information materials and presentation aids and equipment achieve the least benefit, therefore, these types of activities will receive a lower competitive rating.

(3) Emergency Medical Services Program. Our overall objective in this program is to elevate all emergency medical services to an intermediate life-support level (i.e., EMT-D or EMT-I).

(i) We believe that enhancing or expanding an existing service that currently meets basic life-support to an intermediate life-support system would realize the most benefit. We will give a higher competitive rating to fire departments that are planning on acquiring an intermediate life-support system than to those that wish to reach a basic life-support level.

(ii) We also believe that it is more cost effective to expand an existing service than it would be to create a new service. Therefore, we will give a higher competitive rating for fire departments that are enhancing their existing service over those that do not have an emergency medical service.

(iii) While we support CPR and first-responder level training, we will afford a lower priority to train firefighters in basic emergency medical technology (EMT-B) certification levels. We do not believe that it is our mission to create emergency medical services in areas where the local authorities have not yet committed to providing such services.

(4) Firefighting Vehicle Program. (i) We believe that more benefit will be realized by funding fire departments that own few or no firefighting apparatus than by providing funding to a department with numerous vehicles. Therefore, we will give a higher competitive rating in the apparatus category to fire departments that own few or no firefighting vehicles. We will also give higher competitive rating to departments that have not recently purchased a new firefighting vehicle, and departments that wish to replace an old, high-mileage vehicle or a vehicle that has sustained a high number of responses.

(ii) Because of the significant cost of certain types of apparatus and the limited amount of funding available in this program, we do not believe that it would be cost effective to fund vehicles with ladder or aerial apparatus. Therefore, we will lower the competitive rating of applications proposing such purchases.

(iii) Vehicles that are for basic firefighting operations (i.e., pumpers, tankers, and brush trucks) are considered to have higher benefits than vehicles that have limited or specialized uses.

(iv) We believe that more benefit will accrue to a community that needs a new vehicle (i.e., the initial purchase of a new or used vehicle) than for communities that need to replace a vehicle that does not conform to applicable standards. Replacing a vehicle has more benefit than purchasing a vehicle to expand the operational capacity of a department into a new mission area.

(v) While no competitive advantage has been assigned to the purchase of commercial vehicles versus custom vehicles, or used vehicles versus new vehicles in the preliminary evaluation of applications, it has been our experience that depending on the type and size of department, the technical evaluation panelists often prefer low-cost vehicles when evaluating the cost/benefit section of the project narratives. Panelists will be provided with guidance (such as the General Services Administration's price schedules) for use in their evaluation on the reasonableness of vehicle costs.

(vi) Finally, we believe that it would be more beneficial to the nation if we gave these vehicle awards to as many fire departments as possible, therefore, we will allow each fire department to apply for only one vehicle per year.

§ 152.6 Application review and award process.

(a) As stated in §152.5, we will evaluate each application in the preliminary screening process to determine which applications best address the program's established priorities. The best applications as determined in this preliminary step will be deemed to be in the “competitive range.” All applications in the competitive range will be subject to a second level review by a technical evaluation panel. Using the evaluation criteria delineated in §152.5, the panelists will score each application they evaluate. The assigned score will reflect the degree to which the applicant: clearly relates their proposed project; demonstrates financial need; and, details a high benefit to cost value of the proposed activities.

(b) Our award decisions will be based on the stated priorities of the grant program, the demonstrated need of the applicant, and the benefits to be derived from the proposed projects. We will make awards on a competitive basis, i.e., we will fund the highest scored applications before considering lower scored applications.

(c) In order to fulfill our obligations under the law, we may also make funding decisions using rank order as the preliminary basis then based on the type of fire department (paid, volunteer, or combination fire departments), the size and character of the community it serves (urban, suburban, or rural), and the geographic location of the fire department. In these instances where we are making decisions based on geographic location, we will use States as the basic geographic unit.

§ 152.7 Grant payment, reporting and other requirements.

(a) Grantees will have twelve months to incur obligations to fulfill their responsibilities under this grant program. The performance period of each grant will be detailed in the Articles of Agreement that we provide each grantee. Grantees may request funds from us as reimbursement for expenditures made under the grant program or they may request funds for immediate cash needs under FEMA regulations (44 CFR 13.21).

(b) Generally, fire departments should not use grant funds to pay for products and services contracted for, or purchased prior to the effective date of the grant. However, we will consider requests for reimbursement for these on an exceptional basis. Expenses incurred after the application deadline but prior to award may be eligible for reimbursement if the expenses were justified, unavoidable, consistent with the scope of work, and specifically approved by us.

(c) The recipients of funding under this program must report to us on how the grant funding was used and the benefits that resulted from the grant. This will be accomplished via submission of a final report. Details regarding the reporting requirements will be provided in the Articles of Agreement provided to each grantee. Additionally, fire departments that receive funding under this program must agree to provide information to the national fire incident reporting system (NFIRS) for the period covered by the assistance. If a grantee does not currently participate in the incident reporting system and does not have the capacity to report at the time of the award, that grantee must agree to provide information to the system for a twelve-month period commencing as soon as they develop the capacity to report.

§ 152.8 Application submission and deadline.

For each year that this program is authorized after fiscal year 2002, we will announce the grants availability via Notice of Funds Availability. That notice will contain all pertinent information concerning the eligible funding activities, priority funding levels (as appropriate), application period, timelines, and deadlines.

§ 152.9 Technical or procedural error.

(a) We will review our decision with respect to a particular application only where the applicant alleges that we have made a material technical or procedural error and can substantiate such allegation. Requests for reconsideration based upon technical or procedural error should be directed to: Director, Grants Program Office, U.S. Fire Administration, FEMA, 500 C Street, SW., room 304, Washington, DC 20472.

(b) We must receive a request for reconsideration under paragraph (a) of this section within 60 days of the date of the notice of our decision.

(c) As grants are awarded on a competitive basis, in accordance with the findings of an independent panel of experts, we will not entertain requests for reconsideration based upon the merits of an original application. Similarly, we will not consider new information provided after the submission of the original application. In the case of new information, we encourage applicants to incorporate said information into their applications for future grant cycles.

Dated: February 19, 2002.
Joe M. Allbaugh,
Director.

[FR Doc. 02-4380 Filed 2-26-02; 8:45 am]

BILLING CODE 6718-08-P